DEPARTMENT OF AGRICULTURE

Forest Service

Tuolumne-Mariposa Counties Resource Advisory Committee

AGENCY: Forest Service, USDA.

ACTION: Notice of meeting.

SUMMARY: The Tuolumne-Mariposa Counties Resource Advisory Committee (RAC) will meet on August 15, 2011 at the City of Sonora Fire Department, in Sonora, California. The primary purpose of the meeting is to vote on which projects to fund.

DATES: The meeting will be held August 15, 2011, from 12 p.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370 (209) 532-3671, extension 320; EMAIL bethmartinez@fs.fed.us.

SUPPLEMENTARY INFORMATION: Agenda items include: (1) Project voting, (2) Public comment. This meeting is open to the public.

Dated: July 28, 2011.
Christina M. Welch,
Deputy Forest Supervisor.

[FR Doc. 2011-19611 Filed 8-2-11; 8:45 am]

BILLING CODE 3410-11-P